DEPARTMENT OF AGRICULTURE

Submission for OMB Review; Comment Request

November 4, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: Importation of Poultry Meat and Other Poultry Products from Sinaloa and Sonora, Mexico.

OMB Control Number: 0579-0144.

Summary Of Collection: The Animal Health Protection Act of 2002 (Title X, Subtitle E, Sec. 10401-18 of Pub. L. 107-171) is the primary Federal law governing the protection of animal health. Veterinary Services, a program within USDA's Animal and Plant Health Inspection Service (APHIS), is responsible for administering regulations intended to prevent the introduction of animal diseases, such as exotic Newcastle disease (END) into the United States. APHIS currently has regulations in place that restrict the importation of poultry meat and other poultry products from Mexico due to the presence of exotic Newcastle disease in the country. However, APHIS does allow the importation of poultry meat and poultry products from the Mexican States of Sinaloa and Sonora because APHIS has determined that poultry meat and products from these two Mexican States pose a negligible risk of introducing exotic Newcastle disease into the United States. To ensure that these items are safe for importation, APHIS requires that certain data appear on the foreign meat inspection certificate that accompanies the poultry meat and other poultry products from Sinaloa and Sonora to the United States. APHIS also requires that serial numbered seals be applied to containers carrying the poultry meat and other poultry products.

Need and Use of the Information: APHIS will collect information to certify that the poultry meat or other poultry products were (1) derived from poultry born and raised in commercial breeding establishments in Sinaloa and Sonora; (2) derived from poultry that were slaughtered in Sinaloa or Sonora in a Federally-inspected slaughter plant approved to export these commodities to the United States in accordance with Food Safety & Inspection regulations; (3) processed at a Federally inspected processing plant in Sinaloa or Sonora; and (4) kept out of contact with poultry from any other State within Mexico. APHIS will also collect information to ensure that the poultry meat or poultry products from Sinaloa and Sonora pose the most negligible risk possible for introducing exotic Newcastle disease into the United States.

Description of Respondents: Business or other for-profit; Federal Government.

Number of Respondents: 280.

Frequency of Responses: Reporting: On occasion.

Total Burden Hours: 280.

Animal and Plant Health Inspection Service

Title: Foot-and-Mouth Disease; Prohibition on Importation of Farm Equipment.

OMB Control Number: 0579-0195.

Summary of Collection: The Animal Health Protection Act of 2002 is the primary Federal law governing the protection of animal health. Regulations contained in 9 CFR chapter 1, subchapter D, parts 92 through 98 prohibits the importation of used farm equipment into the United States from regions in which foot-and-mouth disease or rinderpest exist, unless the equipment has been stream-cleaned prior to export to the United States so that it is free of exposed dirt and other particulate matter. Disease prevention is the most effective method for maintaining a healthy animal population and enhancing the Animal and Plant Health Inspection Service (APHIS) ability to compete in exporting animals and animal products.

Need and Use of the Information: APHIS will collect information through the use of a certification statement completed by the farm equipment exporter and signed by an authorized official of the national animal health service of the region of origin, stating that the steam-cleaning of the equipment has been done. This is necessary to help prevent the introduction of food-and-mouth disease into the United States. If the information were not collected APHIS would be forced to discontinue the importation of any used farm equipment from FMD regions, a development that could have a damaging financial impact on exporters and importers of this equipment.

Description of Respondents: Business or other for-profit; State, Local or Tribal Government.

Number of Respondents: 150.

Frequency of Responses: Reporting: On occasion.

Total Burden Hours: 200.

Animal Plant and Health Inspection Service

Title: Interstate Movement of Sheep and Goats.

OMB Control Number: 0579-0258.

Summary of Collection: The Animal Health Protection Act (AHPA) of 2002 is the primary Federal law governing the protection of animal health. The law gives the Secretary of Agriculture broad authority to detect, control, or eradicate pests or diseases of livestock or poultry. Disease prevention is the most effective method for maintaining a healthy animal population and enhancing the ability of the Animal and Plant Health Inspection Service (APHIS) to help U.S. producers compete in the world market of animal and animal product trade. The Veterinary Services (VS) program of APHIS is the unit responsible for carrying out the disease prevention mission. One of the APHIS disease eradication programs addresses scrapie. Scrapie is a progressive, degenerative, and eventually fatal disease affecting the central nervous system of sheep and goats.

Need and Use of the Information: In order for APHIS' scrapie eradication program to be effective, its animal identification, recordkeeping, and other requirements must be carried out at livestock facilities that handle sheep and goats moving in interstate commerce. The individual legally responsible for the day-to-day operation of the facility must execute an Approval of Livestock Facilities Agreement with APHIS. The information restricts the interstate movement of livestock within the United States to control diseases of concern and approve livestock facilities that handle sheep and goats moving in interstate commerce.

Description of Respondents: Business or other for-profit; State, Local or Tribal Government.

Number of Respondents: 200.

Frequency of Responses: Recordkeeping; Reporting: On occasion.

Total Burden Hours: 237.

Charlene Parker,
Departmental Information Collection Clearance Officer.

[FR Doc. 2011-29093 Filed 11-9-11; 8:45 am]

BILLING CODE 3410-34-P